DEPARTMENT OF HEALTH AND HUMAN SERVICES

Administration for Children and Families

Submission for OMB Review; Survey of the National Survey of Child and Adolescent Well-Being (NSCAW) Adopted Youth, Young Adults, and Adoptive Parents (New Collection)

AGENCY: Office of Planning, Research and Evaluation (OPRE); Administration for Children and Families; Department Of Health and Human Services (HHS).

ACTION: Request for public comment.

SUMMARY: The Administration for Children and Families (ACF) at the U.S. Department of Health and Human Services (HHS) seeks approval for a one-time study to examine familial outcomes 8 or more years after a child's adoption from the child welfare system. The primary objective of this study is to estimate the prevalence of instability events that occur in families who have adopted children who have exited the foster care system. The second objective is to understand risk and protective factors associated with post adoption instability.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent within 30 days of publication of this notice to www.reginfo.gov/public/do/PRAMain. Find this particular information collection by selecting “Currently under 30-day Review—Open for Public Comments” or by using the search function.

SUPPLEMENTARY INFORMATION: Description: The proposed study would conduct web or telephone surveys with adopted youth, young adults, and adults as well as adoptive parents who were participants in the first or second cohort of NSCAW (NSCAW I, II; OMB #0970-0202). The surveys are designed to collect information about instability events (such as foster care re-entry or running away that occurred after a child's adoption) as well as family functioning, perceptions of the adoption relationship, and services and support received after adoption.

Respondents: Adopted youth, young adults, adults, and their associated adoptive parents who participated in NSCAW I or II.

Annual Burden Estimates
Instrument | Total number of respondents | Number of responses per respondent | Average burden hours per response | Annual burden hours
Survey of NSCAW Adopted Youth, Young Adults, and Adults | 588 | 1 | .5 | 294
Survey of NSCAW Adoptive Parents | 554 | 1 | .5 | 277

Estimated Total Annual Burden Hours: 571.

Authority: Child Abuse Prevention and Treatment and Adoption Reform Act of 1978.

Mary B. Jones,
ACF/OPRE Certifying Officer.

[FR Doc. 2020-13939 Filed 6-26-20; 8:45 am]

BILLING CODE 4184-25-P